FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011815-003.

Title: Transpacific Space Charter Agreement.

Parties: Hapag-Lloyd Container Linie; Nippon Yusen Kaisha; Orient Overseas Container Line Limited; Orient Overseas Container Line (Europe) Limited; Orient Overseas Container Line Inc.; P&O Nedlloyd Limited; and P&O Nedlloyd B.V.

Synopsis: The amendment would delete P&O Nedlloyd Limited and P&O Nedlloyd B.V. as parties to the agreement, revise the duration of the agreement, clarify the reciprocal nature of the agreement, and delete obsolete language. The amendment would also restate the agreement and make minor corrections to reflect the foregoing changes. The parties request expedited review.

Agreement No.: 011883.

Title: Maersk Sealand/Lykes Lines/TMM Lines Slot Exchange Agreement.

Parties: A.P. Moller-Maersk A/S; Lykes Lines Limited, LLC, and TMM Lines Limited, LLC.

Synopsis: The agreement would authorize the parties to exchange slots in the trade between the ports of Oakland and Los Angeles, California; Tacoma, Washington; Anchorage, Alaska, and Vancouver, British Columbia, on the one hand, and the ports of Nagoya, Kobe, Tokyo, and Yokohama, Japan; Kwangyang and Busan, South Korea; Kaohsiung, Taiwan; and Hong Kong, Shanghai, Ningbo, Yantian, Xiamen, and Qingdao, China. The agreement would terminate April 30, 2005.

Agreement No.: 201103-003.

Title: Memorandum Agreement Concerning Assessments to Pay ILWU-PMA Employee Benefit Costs.

Parties: Members of the Pacific Maritime Association.

Synopsis: The amendment revises the basis for the man-hour and tonnage assessment rates.

Dated: May 28, 2004.
By Order of the Federal Maritime Commission.
Bryant L. VanBrakle,
Secretary.

[FR Doc. 04-12587 Filed 6-2-04; 8:45 am]

BILLING CODE 6730-01-P